DEPARTMENT OF ENERGY

Federal Energy Regulatory Commission

Combined Notice of Filings #1

Take notice that the Commission received the following exempt wholesale generator filings:

Docket Numbers: EG17-38-000.

Applicants: Darby Power, LLC.

Description: Notice of Self-Certification of Exempt Wholesale Generator Status of Darby Power, LLC.

Filed Date: 1/5/17.

Accession Number: 20170105-5059.

Comments Due: 5 p.m. ET 1/26/17.

Docket Numbers: EG17-39-000.

Applicants: Gavin Power, LLC.

Description: Self-Certification of Exempt Wholesale Generator Status of Gavin Power, LLC.

Filed Date: 1/5/17.

Accession Number: 20170105-5062.

Comments Due: 5 p.m. ET 1/26/17.

Docket Numbers: EG17-40-000.

Applicants: Lawrenceburg Power, LLC.

Description: Self-Certification of Exempt Wholesale Generator Status of Lawrenceburg Power, LLC.

Filed Date: 1/5/17.

Accession Number: 20170105-5066.

Comments Due: 5 p.m. ET 1/26/17.

Docket Numbers: EG17-41-000.

Applicants: Waterford Power, LLC.

Description: Self-Certification of Exempt Wholesale Generator Status of Waterford Power, LLC.

Filed Date: 1/5/17.

Accession Number: 20170105-5067.

Comments Due: 5 p.m. ET 1/26/17.

Take notice that the Commission received the following electric rate filings:

Docket Numbers: ER17-358-001.

Applicants: Southwest Power Pool, Inc.

Description: Tariff Amendment: Amended Filing in ER17-358—Enhanced Combined Cycle Tariff Revisions to be effective 3/1/2017.

Filed Date: 1/5/17.

Accession Number: 20170105-5000.

Comments Due: 5 p.m. ET 1/19/17.

Docket Numbers: ER17-745-000.

Applicants: ITC Midwest LLC.

Description: § 205(d) Rate Filing: Cancellation of Louisa Connection Facilities Agreements to be effective 10/21/2016.

Filed Date: 1/4/17.

Accession Number: 20170104-5133.

Comments Due: 5 p.m. ET 1/25/17.

Docket Numbers: ER17-746-000.

Applicants: California Independent System Operator Corporation.

Description: § 205(d) Rate Filing: 2017-01-04 Arlington Valley Solar 2 LGIA to be effective 3/6/2017.

Filed Date: 1/4/17.

Accession Number: 20170104-5145.

Comments Due: 5 p.m. ET 1/25/17.

Docket Numbers: ER17-747-000.

Applicants: Southern California Edison Company.

Description: § 205(d) Rate Filing: GIA and Distribution Service Agmt Morwind Project to be effective 12/16/2016.

Filed Date: 1/5/17.

Accession Number: 20170105-5007.

Comments Due: 5 p.m. ET 1/26/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 5, 2017.
Nathaniel J. Davis, Sr.,
Deputy Secretary.

[FR Doc. 2017-00389 Filed 1-10-17; 8:45 am]

BILLING CODE 6717-01-P